DEPARTMENT OF VETERANS AFFAIRS

38 CFR Parts 8a and 36

RIN 2900-AR09

Nomenclature Change for Position Title

AGENCY: Department of Veterans Affairs.

ACTION: Final rule.

SUMMARY: The Department of Veterans Affairs is amending its regulations to revise the title of the “Director, Loan Guaranty Service” to “Executive Director, Loan Guaranty Service” and to remove references to the position of “Deputy Under Secretary for Economic Opportunity.” These amendments reflect current agency organizational structure and are necessary to ensure consistency between the agency and its regulations.

DATES: This rule is effective September 15, 2021.

FOR FURTHER INFORMATION CONTACT: Stephanie Li, Chief of Regulations, Loan Guaranty Service, (26A), Veterans Benefits Administration, Department of Veterans Affairs, 810 Vermont Avenue NW, Washington, DC 20420, (202) 632-8862. (This is not a toll-free telephone number.)

SUPPLEMENTARY INFORMATION: A number of VA regulations reference the “Director, Loan Guaranty Service”, but the title for this position has been amended from “Director, Loan Guaranty Service” to “Executive Director, Loan Guaranty Service.” Also, certain VA regulations reference the “Deputy Under Secretary for Economic Opportunity,” but that position has been eliminated within the Veterans Benefits Administration. To ensure accuracy and consistency between the agency and its regulations, this final rule revises VA regulations to reflect this nomenclature change and organizational structure.

Additionally, VA notes that there is a technical drafting error at § 36.4345(b)(1) in which paragraph level (iv) is used twice. This final rule corrects that error.

Administrative Procedure Act

This final rule concerns only agency organization, procedure, or practice and, therefore, is not subject to the notice and comment provisions of 5 U.S.C. 553(b). See 38 U.S.C. 553(b)(A). Specifically, this final rule consists of amendments reflecting agency organization, revising the title of one position and removing the reference to another eliminated position. VA has also determined that there is good cause to make this final rule effective on the date of publication under 5 U.S.C. 553(d)(3). As the agency has already adapted to the above noted organizational amendments, delaying the effective date is unnecessary.

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. The Office of Information and Regulatory Affairs has determined that this rule is not a significant regulatory action under Executive Order 12866. The Regulatory Impact Analysis associated with this rulemaking can be found as a supporting document at www.regulations.gov.

Regulatory Flexibility Act

The Regulatory Flexibility Act, 5 U.S.C. 601 et seq. (RFA), imposes certain requirements on Federal agency rules that are subject to the notice and comment requirements of the Administrative Procedure Act (APA), 5 U.S.C. 553(b). This final rule pertains to agency organization, which the APA expressly exempts from notice and comment rulemaking requirements under 5 U.S.C. 553(b)(A). Therefore, the requirements of the RFA applicable to notice and comment rulemaking do not apply to this rule. Accordingly, the Department is not required either to certify that the final rule would not have a significant economic impact on a substantial number of small entities or to conduct a regulatory flexibility analysis.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This final rule will have no such effect on State, local, and tribal governments, or on the private sector.

Paperwork Reduction Act

This final rule contains no provisions constituting a collection of information under the Paperwork Reduction Act of 1995 (44 U.S.C. 3501-3521).

Catalog of Federal Domestic Assistance

The Catalog of Federal Domestic Assistance numbers and titles for the programs affected by this document are 64.106, Specially Adapted Housing For Disabled Veterans; 64.114, Veterans Housing Guaranteed and Insured Loans; 64.118, Veterans Housing Direct Loans for Certain Disabled Veterans; and 64.126, Native American Veteran Direct Loan Program.

Congressional Review Act

Pursuant to Subtitle E of the Small Business Regulatory Enforcement Fairness Act of 1996 (known as the Congressional Review Act) (5 U.S.C. 801 et seq.), the Office of Information and Regulatory Affairs designated this rule as not a major rule, as defined by 5 U.S.C. 804(2).

List of Subjects

38 CFR Part 8a

Life insurance, Mortgage insurance, Veterans.

38 CFR Part 36

Condominiums, Housing, Individuals with disabilities, Loan programs—housing and community development, Loan programs—Indians, Loan programs—veterans, Manufactured homes, Mortgage insurance, Veterans.

Signing Authority

Denis McDonough, Secretary of Veterans Affairs, approved this document on September 2, 2021, and authorized the undersigned to sign and submit the document to the Office of the Federal Register for publication electronically as an official document of the Department of Veterans Affairs.

Luvenia Potts,
Regulation Development Coordinator, Office of Regulation Policy & Management, Office of General Counsel, Department of Veterans Affairs.

For the reasons stated in the preamble, the Department of Veterans Affairs amends 38 CFR parts 8a and 36 as set forth below:

PART 8A—VETERANS MORTGAGE LIFE INSURANCE

1. The authority citation for part 8a continues to read as follows:

Authority: 38 U.S.C. 501, and 2101 through 2016, unless otherwise noted.

§ 8a.1 [Amended]

2. In § 8a.1 amend paragraph (e)(3) by removing the words “Director, Loan Guaranty Service” and adding, in their place, the words “Executive Director, Loan Guaranty Service”.

PART 36—LOAN GUARANTY

3. The authority citation for part 36 continues to read as follows:

Authority: 38 U.S.C. 501 and 3720.

PART 36 [Amended]

4. Amend part 36 by removing the words “Director, Loan Guaranty Service” wherever they appear, and adding, in their place, the words “Executive Director, Loan Guaranty Service”.

§ 36.4221 [Amended]

5. In § 36.4221 amend paragraph (d) by removing the word “Director” and adding, in its place, the words “Director or Executive Director”.

§ 36.4345 [Amended]

6. Amend § 36.4345 by:

a. Removing paragraph (b)(1)(iii);

b. Redesignating the first paragraph (b)(1)(iv) as paragraph (b)(1)(iii);

c. Removing the word “Director” in paragraph (d), and adding, in its place, the words “Director or Executive Director”; and

d. In paragraphs (e)(3) and (f)(3) removing the words “Office of the Director of VA Loan Guaranty Service” and adding, in their place, the words “Office of the Executive Director, Loan Guaranty Service”.

§ 36.4412 [Amended]

7. Amend § 36.4412 by:

a. Removing paragraph (i)(1)(ii); and

b. Redesignating paragraphs (i)(1)(iii) and (iv) as paragraphs (i)(1)(ii) and (iii), respectively.

§ 36.4520 [Amended]

8. In § 36.4520 by amend paragraph (d), removing the word “Director” and adding, in its place, the words “Director or Executive Director”.

§ 36.4527 [Amended]

9. In § 36.4527 amend paragraph (j)(4) by removing the word “Director” and adding, in its place, the words “Director or Executive Director”.

[FR Doc. 2021-19793 Filed 9-14-21; 8:45 am]

BILLING CODE 8320-01-P